DEPARTMENT OF THE INTERIOR

National Park Service

Cape Krusenstern-Kobuck Valley National Park Subsistence Resource Commission; Meeting

AGENCY: National Park Service, Interior.

ACTION: Announcement of Subsistence Resource Commission meeting.

SUMMARY: The Superintendent of Cape Krusenstern National Monument and Kobuk Valley National Park and the Chairpersons of the Subsistence Resource Commissions for Cape Krusenstern National Monument and Kobuk Valley National Park announce a forthcoming joint meeting of the Cape Krusenstern National Monument and Kobuk Valley National Park Subsistence Resource Commissions. The following agenda items will be discussed:

(1) SRC Chairs Welcome—Introduction of commission members and guests.

(2) Superintendent's welcome.

(3) SRC Member Round Table Discussion

(4) SRC Membership—Election of officers.

(5) Superintendent's Management/Research Report.

(6) Old business:

a. SRC Recommendations

(7) New business:

(8) Public and other agency comments

(9) SRC Work Session

(10) Set time and place of next SRC meeting

(11) Adjournment

DATES: The meeting will be held from 1 p.m. to 5 p.m. on Tuesday March 20 and 8 a.m. to 12 Noon on Wednesday March 21 (evening sessions at the call of the Chairs).

Location: The meeting will be held U.S. Fish and Wildlife Service conference room in Kotzebue, Alaska.

FOR FURTHER INFORMATION CONTACT: David W. Spirtes, Superintendent, P.O. Box 1029, Kotzebue, Alaska 99752. Phone (907) 456-0578 or Ken Adkisson at (800) 471-2352.

SUPPLEMENTARY INFORMATION: The Subsistence Resource Commissions are authorized under Title VIII, section 808, of the Alaska National Interest Lands Conservation Act, Public Law 96-487 and operate in accordance with the provisions of the Federal Advisory Committees Act.

Robert L. Arnberger,
Regional Director.

[FR Doc. 01-6899 Filed 3-19-01; 8:45 am]

BILLING CODE 4310-70-P